DEPARTMENT OF COMMERCE

International Trade Administration

(A-588-866)

Notice of Final Determination of Sales at Less Than Fair Value: Superalloy Degassed Chromium from Japan

AGENCY: Import Administration, International Trade Administration, Department of Commerce.

EFFECTIVE DATE: November 1, 2005.

SUMMARY: The Department of Commerce determines that imports of superalloy degassed chromium from Japan are being, or are likely to be, sold in the United States at less than fair value, as provided in section 735 of the Tariff Act of 1930, as amended (the Act). The final weighted-average dumping margins are listed below in the section entitled “Final Determination of Investigation.”

FOR FURTHER INFORMATION CONTACT: Janis Kalnins or Minoo Hatten, Import Administration, International Trade Administration, U.S. Department of Commerce, 14th Street and Constitution Avenue, NW, Washington, DC 20230; telephone: (202) 482-1392 or (202) 482-1690, respectively.

SUPPLEMENTARY INFORMATION:

Background

On August 18, 2005, the Department of Commerce (the Department) published the preliminary determination of sales at less than fair value (LTFV) in the antidumping investigation of superalloy degassed chromium from Japan. See Notice of Preliminary Determination of Sales at Less Than Fair Value: Superalloy Degassed Chromium from Japan, 70 FR 48538 (August 18, 2005) (Preliminary Determination). We requested that parties comment on the Preliminary Determination. We did not make a decision on scope-clarification comments submitted by parties prior to the Preliminary Determination, as there was insufficient information on the record to draw a conclusion. Therefore, we invited parties to provide any new factual information on this issue and scope comments.

We received new factual information and scope comments from Tosoh Corporation and Tosoh Specialty Materials Corporation (collectively, Tosoh) and from Eramet Marietta Inc. (Eramet) and the Paper Allied-Industrial Chemical and Energy Workers International Union (collectively, the petitioners). We did not receive any comments, scope or otherwise, from JFE Material Co., Ltd. (JFE Material), during this investigation. While Mitsui & Co. (U.S.A.), Inc. (Mitsui), submitted scope comments prior to the Preliminary Determination, we have not received any comments from Mitsui since the Preliminary Determination. On September 21, 2005, the petitioners requested a hearing to discuss scope comments or rebuttal comments raised by interested parties in the investigation but then withdrew their request for a hearing on September 30, 2005. We did not receive any case or rebuttal briefs from any interested parties.

Scope Comments

All comments raised by parties to this investigation on superalloy degassed chromium from Japan are addressed in the Scope Comments Memorandum from Laurie Parkhill, Office Director, to Stephen J. Claeys, Deputy Assistant Secretary, dated October 25, 2005. As discussed in the Scope Comments Memorandum, the scope of the investigation remains unchanged from our preliminary determination. This Scope Comments Memorandum, which is a public document, is on file in the Department's Central Records Unit, Herbert C. Hoover building, Room B-099.

Period of Investigation

The period of investigation is January 1, 2004, through December 31, 2004.

Scope of Investigation

The product covered by this investigation is all forms, sizes, and grades of superalloy degassed chromium from Japan. Superalloy degassed chromium is a high-purity form of chrome metal that generally contains at least 99.5 percent, but less than 99.95 percent, chromium. Superalloy degassed chromium contains very low levels of certain gaseous elements and other impurities (typically no more than 0.005 percent nitrogen, 0.005 percent sulphur, 0.05 percent oxygen, 0.01 percent aluminum, 0.05 percent silicon, and 0.35 percent iron). Superalloy degassed chromium is generally sold in briquetted form, as “pellets” or “compacts,” which typically are 11/2 inches x 1 inch x 1 inch or smaller in size and have a smooth surface. Superalloy degassed chromium is currently classifiable under subheading 8112.21.00 of the Harmonized Tariff Schedule of the United States (HTSUS). This investigation covers all chromium meeting the above specifications for superalloy degassed chromium regardless of tariff classification.

Certain higher-purity and lower-purity chromium products are excluded from the scope of this investigation. Specifically, the investigation does not cover electronics-grade chromium, which contains a higher percentage of chromium (typically not less than 99.95 percent), a much lower level of iron (less than 0.05 percent), and lower levels of other impurities than superalloy degassed chromium. The investigation also does not cover “vacuum melt grade” (VMG) chromium, which normally contains at least 99.4 percent chromium and contains a higher level of one or more impurities (nitrogen, sulphur, oxygen, aluminum and/or silicon) than specified above for superalloy degassed chromium.

Although the HTSUS subheading is provided for convenience and customs purposes, the written description of the scope of this investigation is dispositive.

Adverse Facts Available

For the final determination, we continue to find that, by failing to provide information we requested, JFE Material, a producer and exporter of superalloy degassed chromium from Japan and mandatory respondent in this investigation, did not act to the best of its ability. Thus, the Department continues to find that the use of adverse facts available is warranted under section 776(a)(2) of the Act. See Preliminary Determination, 70 FR at 48539-48540.

Final Determination of Investigation

We determine that the following weighted average dumping margins exist for the period January 1, 2004, through December 31, 2004:

Manufacturer or Exporter | Weighted-Average Margin (percent)
JFE Material Co., Ltd. | 129.32
All Others | 129.32

Continuation of Suspension of Liquidation

Pursuant to section 735(c)(1)(B) of the Act and 19 CFR 351.211(b)(1), we will instruct Customs and Border Protection (CBP) to continue to suspend liquidation of all imports of subject merchandise from Japan entered, or withdrawn from warehouse, for consumption on or after August 18, 2005, the date of the publication of our preliminary determination. CBP shall continue to require a cash deposit or the posting of a bond equal to the estimated amount by which the normal value exceeds the U.S. price as shown above. These instructions suspending liquidation will remain in effect until further notice.

International Trade Commission Notification

In accordance with section 735(d) of the Act, we have notified the International Trade Commission (ITC) of our final determination. As our final determination is affirmative and in accordance with section 735(b)(2) of the Act, the ITC will determine, within 45 days, whether the domestic industry in the United States is materially injured, or threatened with material injury, by reason of imports, or sales (or the likelihood of sales) for importation, of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation (i.e., August 18, 2005).

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: October 25, 2005.
Stephen J. Claeys,
Acting Assistant Secretary for Import Administration.

[FR Doc. 05-21769 Filed 10-31-05; 8:45 am]

BILLING CODE 3510-DS-S